DEPARTMENT OF THE INTERIOR

National Park Service

Notice of Inventory Completion: Paul H. Karshner Memorial Museum, Puyallup, WA; Correction

AGENCY: National Park Service, Interior.

ACTION: Notice; correction.

Notice is here given in accordance with the Native American Graves Protection and Repatriation Act (NAGPRA), 25 U.S.C. 3003, of the completion of an inventory of human remains in the possession of the Paul H. Karshner Memorial Museum, Puyallup, WA. The human remains were removed from an unknown area of Western Oregon.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

This notice increases the minimum number of individuals from one to two in a Notice of Inventory Completion published in the Federal Register of January 15, 2008 (FR Doc E8-563, Pages 2525-2526).

The Notice of Inventory Completion in the Federal Register of January 15, 2008, paragraph number 4 is corrected by substituting the following paragraph:

In the 1930s, human remains representing a minimum of two individuals were removed from an unknown area in Western Oregon. The human remains were donated to the museum by Dr. Warner M. Karshner in the 1930s. No known individuals were identified. No associated funerary objects are present.

Paragraph number 7 is corrected by substituting the following paragraph:

Officials of the Paul H. Karshner Memorial Museum have determined that, pursuant to 25 U.S.C. 3001 (9-10), the human remains described above represent the physical remains of two individuals of Native American ancestry. Officials of the Paul H. Karshner Memorial Museum also have determined that, pursuant to 25 U.S.C. 3001 (2), there is a relationship of shared group identity that can be reasonably traced between the Native American human remains and the Confederated Tribes of the Grand Ronde Community of Oregon.

Representatives of any other Indian tribe that believes itself to be culturally affiliated with the human remains should contact Dr. Jay Reifel, Assistant Superintendent, telephone (253) 840-8971 or Ms. Beth Bestrom, Museum Curator, Paul H. Karsnher Memorial Museum, 309 4th St. NE, Puyallup, WA 98372, telephone (253) 841-8748, before April 30, 2008. Repatriation of the human remains to the Confederated Tribes of the Grand Ronde Community of Oregon may proceed after that date if no additional claimants come forward.

Paul H. Karshner Memorial Museum is responsible for notifying the Confederated Tribes of the Coos, Lower Umpqua and Siuslaw Indians of Oregon; Confederated Tribes of the Grand Ronde Community of Oregon; Confederated Tribes of the Siletz Reservation, Oregon; and Coquille Tribe of Oregon that this notice has been published.

Dated: February 4, 2008.
Sherry Hutt,
Manager, National NAGPRA Program.

[FR Doc. E8-6558 Filed 3-28-08; 8:45 am]

BILLING CODE 4312-50-S